DEPARTMENT OF COMMERCE

National Oceanic and Atmospheric Administration

RIN 0648-XA607

Fisheries of the Caribbean; Southeastern Data, Assessment, and Review (SEDAR); Assessment Webinars for SEDAR 26 Caribbean Silk Snapper, Queen Snapper, and Redtail Parrotfish

AGENCY: National Marine Fisheries Service (NMFS), National Oceanic and Atmospheric Administration (NOAA), Commerce.

ACTION: Notice of SEDAR 26 Caribbean silk snapper, queen snapper, and redtail parrotfish assessment webinars.

SUMMARY: The SEDAR 26 assessments of the Caribbean stocks of silk snapper, queen snapper, and redtail parrotfish will consist of a series of workshops and webinars: a Data Workshop, an Assessment workshop, a series of Assessment webinars, and a Review Workshop. See SUPPLEMENTARY INFORMATION.

DATES: The SEDAR 26 Assessment webinars will be held on Thursday, August 25, 2011 from 1 p.m. to 4 p.m. (EST) and Tuesday, September 20, 2011 from 1 p.m. to 4 p.m. (EST). The established times may be adjusted as necessary to accommodate the timely completion of discussion relevant to the assessment process. Such adjustments may result in the meeting being extended from, or completed prior to the time established by this notice.

ADDRESSES: The meeting will be held via webinar. The webinar is open to members of the public. Those interested in participating should contact Julie Neer at SEDAR (See FOR FURTHER INFORMATION CONTACT) to request an invitation providing webinar access information.

FOR FURTHER INFORMATION CONTACT: Julie A. Neer, SEDAR Coordinator, 4055 Faber Place, Suite 201, North Charleston, SC 29405; telephone: (843) 571-4366; e-mail: Julie.neer@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a three-step process including: (1) Data Workshop, (2) Assessment Process utilizing a workshop and webinars and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 26 Assessment webinars:

Using datasets recommended from the Data Workshop, participants will employ assessment models to evaluate stock status, estimate population benchmarks and management criteria, and project future conditions. Participants will recommend the most appropriate methods and configurations for determining stock status and estimating population parameters.

Meeting Schedule

August 25, 2011 from 1 p.m. to 4 p.m. (EST)

September 20. 2011 from 1 p.m. to 4 p.m. (EST)

Special Accommodations

These meetings are physically accessible to people with disabilities. Requests for sign language interpretation or other auxiliary aids should be directed to the SEDAR office (see ADDRESSES) at least 5 business days prior to the meetings.

Dated: July 25, 2011.
Tracey L. Thompson,
Acting Director, Office of Sustainable Fisheries, National Marine Fisheries Service.

[FR Doc. 2011-19112 Filed 7-27-11; 8:45 am]

BILLING CODE 3510-22-P